DEPARTMENT OF COMMERCE

National Oceanic and Atmospheric Administration

[I.D. 012507C]

Marine Mammals; File No. 877-1903

AGENCY: National Marine Fisheries Service (NMFS), National Oceanic and Atmospheric Administration (NOAA), Commerce.

ACTION: Notice; receipt of application.

SUMMARY: Notice is hereby given that Daniela Maldini, Okeanis, PO Box 818, Pacific Grove, CA 93950, has applied in due form for a permit to conduct scientific research on marine mammals.

DATES: Written, telefaxed, or e-mail comments must be received on or before March 7, 2007.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 877-1903.

FOR FURTHER INFORMATION CONTACT: Jaclyn Daly or Amy Hapeman, (301)713-2289.

SUPPLEMENTARY INFORMATION: The subject permit is requested under the authority of the Marine Mammal Protection Act of 1972, as amended (MMPA; 16 U.S.C. 1361 et seq.) and the regulations governing the taking and importing of marine mammals (50 CFR part 216).

The applicant requests a 5-year permit to conduct research on bottlenose dolphins, Tursiops truncatus, off the coast of California, primarily in Santa Monica Bay and Monterey Bay. Research would involve close approach for vessel surveys, photo-identification, videography, behavioral observations, and biopsy sampling. The purpose of the research is to investigate stock structure, demographics, behavior, residency patterns, and toxicity loads of coastal and offshore dolphins.

Concurrent with the publication of this notice in the Federal Register, NMFS is forwarding copies of this application to the Marine Mammal Commission and its Committee of Scientific Advisors.

Dated: January 25, 2007.
Tammy C. Adams,
Acting Chief, Permits, Conservation and Education Division, Office of Protected Resources, National Marine Fisheries Service.

[FR Doc. E7-1803 Filed 2-2-07; 8:45 am]

BILLING CODE 3510-22-S